DEPARTMENT OF AGRICULTURE

Agricultural Marketing Service

[Doc# AMS-TM-09-0088; TM-09-09]

Notice of Funds Availability (NOFA) Inviting Applications for the 2010 Farmers' Market Promotion Program (FMPP)

AGENCY: Agricultural Marketing Service, USDA.

ACTION: Notice.

SUMMARY: The Agricultural Marketing Service (AMS) announces funding of approximately $5 million in competitive grant funds for fiscal year (FY) 2010 to increase domestic consumption of agricultural commodities by expanding direct producer-to-consumer market opportunities. Examples of direct producer-to-consumer market opportunities include new farmers' markets, roadside stands, community supported agriculture programs, agri-tourism activities, and other direct producer-to-consumer infrastructures. AMS hereby requests proposals from eligible entities from the following categories: an agricultural cooperative or a producer network or association, local governments, nonprofit corporations, public benefit corporations, economic development corporations, regional farmers' market authorities, and Tribal governments. The minimum award per grant is $2,500 and the maximum award per grant is $100,000. No matching funds are required.

DATES: Applications should be received at the address below and must be postmarked not later than April 15, 2010. Applications bearing a postmark after the deadline will not be considered.

ADDRESSES: Submit proposals and other required materials to the 2010 Farmers' Market Promotion Program (FMPP) Grant Program, Agricultural Marketing Service (AMS), USDA, Room 3012-South Tower, 1800 M Street, NW., Washington, DC, 20036-5831, phone 202-694-4000.

For hard-copy (paper) submissions, all forms, narrative, letters of support, and other required materials must be forwarded in one application package. AMS will not accept application packages by e-mail; electronic applications will be accepted only if submitted via http://www.Grants.gov. AMS strongly recommends that each applicant visit the AMS Web site at http://www.ams.usda.gov/FMPP to review a copy of the FMPP Guidelines and application package preparation information to assist in preparing the proposal narrative and application.

FOR FURTHER INFORMATION CONTACT: Ms. Carmen Humphrey, Branch Chief, Marketing Grants and Technical Services Branch, Marketing Services Division, Transportation and Marketing Programs, AMS, USDA, on 202-694-4000, fax 202-694-5949. State that your request for information refers to Docket No. TM-09-09.

SUPPLEMENTARY INFORMATION: This solicitation is issued pursuant to Section 6 of the Farmer-to-Consumer Direct Marketing Act of 1976 (7 U.S.C. 3001-3006) as amended by Section 10605 of the Farm Security and Rural Investment Act of 2002 (Pub. L. 107-171) authorizing the establishment of the Farmers' Market Promotion Program (7 U.S.C. 3005)(FMPP) and as amended by section 10106 of the Food, Conservation and Energy Act of 2008 (Pub. L. 110-246). The amended act states that the purposes of the FMPP are “(A) to increase domestic consumption of agricultural commodities by improving and expanding, or assisting in the improvement and expansion of, domestic farmers' markets, roadside stands, community-supported agriculture programs, agri-tourism activities and other direct producer-to-consumer market opportunities; and (B) to develop, or aid in the development of, new farmers' markets, roadside stands, community-supported agriculture programs, agri-tourism activities, and other direct producer-to-consumer marketing opportunities.”

Detailed program guidelines may be obtained at http://www.ams.usda.gov/FMPP or from the contact listed above. In accordance with the Secretary's Statement of Policy (36 FR 13804), it is found and determined upon good cause that it is impracticable, unnecessary, and contrary to the public interest to engage in further public participation under 5 U.S.C. 553 because the applications for the FMPP need to be made available as soon as possible as the program season approaches.

Background

AMS will grant awards for projects that continue developing, promoting, and expanding direct marketing of agricultural commodities from farmers to consumers. Eligible FMPP proposals should support marketing entities where agricultural farmers or vendors sell their own products directly to consumers, and the sales of these farm products should represent the core business of the entity.

All eligible entities shall be domestic entities, i.e., those owned, operated, and located within one or more of the 50 United States and the District of Columbia only. Entities located within U.S. territories are not eligible.

Additionally, under this program eligible entities must apply for FMPP funds on behalf of direct marketing operators that include two or more agricultural farmers/vendors that produce and sell their own products through a common distribution channel. For example, a sole proprietor of a roadside farm market would not be eligible for this program. Individual agricultural producers, including farmers and farmers' market vendors, roadside stand operators, community-supported agriculture participants, and other individual direct marketers are not eligible for FMPP funds.

All electronic benefits transfers (EBT) will be considered for FMPP funding. Not less than 10 percent of the total available funds will be used to support the use of electronic benefits transfer (EBT) for Federal nutrition programs at farmers' markets. Additionally, these new EBT projects must demonstrate a plan to continue to provide EBT card access at one (1) or more farmers' markets following the completion of the FMPP grant. To be included in this allotment of funds the application narrative must designate the applicant's competition for FMPP as a new EBT project. See the FMPP Guidelines at http://www.ams.usda.gov/FMPP for more information. FMPP funds shall be provided to eligible entities that demonstrate a plan to continue to provide EBT card access at one (1) or more farmers' markets following the receipt of the grant.

FMPP grant funds must be applied to the specific programs and objectives identified in the application. Proprietary projects and projects that benefit one agricultural producer or individual will not be considered.

Paperwork Reduction Act

In accordance with the Paperwork Reduction Act of 1995, (44 U.S.C. Chapter 35), the FMPP information collection was previously approved by OMB and was assigned OMB control number 0581-0235.

AMS is committed to compliance with the Government Paperwork Elimination Act (GPEA) that requires Government agencies in general to provide the public the option of submitting information or transacting business electronically to the maximum extent possible.

How To Submit Proposals and Applications

Each applicant must follow the application preparation and submission instructions provided within the FMPP Guidelines at http://www.ams.usda.gov/FMPP. Electronic forms, proposals, letters of support, or any other application materials e-mailed directly to AMS-FMPP or USDA-AMS staff will not be accepted.

Following are the options available for submitting proposals and applications to AMS:

Paper Submissions—For paper submissions, an original and one copy of the proposal, required forms, narrative, letters of support, and all required materials must be submitted in one package, preferably via express mail.

Electronic Submissions via Grants.gov—Applicants may apply electronically for grants through Grants.gov at http://www.Grants.gov (insert 10.168 in grant search) and are strongly encouraged to initiate the electronic submission process at least two weeks prior to application deadline. Grants.gov applicants who submit their FMPP proposals via the Federal grants Web site are not required to submit any paper documents to FMPP.

FMPP is listed in the “Catalog of Federal Domestic Assistance” under number 10.168 and subject agencies must adhere to Title VI of the Civil Rights Act of 1964, which bars discrimination in all federally assisted programs.

Dated: February 18, 2010.
Rayne Pegg,
Administrator, Agricultural Marketing Service.

[FR Doc. 2010-4056 Filed 2-26-10; 8:45 am]

BILLING CODE 3410-02-P